NATIONAL SCIENCE FOUNDATION

Business and Operations Advisory Committee

ACTION: Change in Notice of Meeting.

SUMMARY: The National Science Foundation published a Notice of Meeting in the Federal Register on Monday, October 25, page 65528. The topics listed in the agenda have been changed.

Date/Time: November 16, 2010; 1 p.m. to 5:30 p.m. (EST).

November 17, 2010; 8 a.m. to 12 p.m. (EST).

Place: Arlington Hilton, Gallery II Conference Room, Arlington, VA.

Type of Meeting: OPEN.

Contact Person: Patty Balanga, National Science Foundation, 4201 Wilson Boulevard, Arlington, VA 22230, (703) 292-8100.

Purpose of Meeting: To provide advice concerning issues related to the oversight, integrity, development and enhancement of NSF's business operations.

Agenda

November 16, 2010

Welcome/Introductions; BFA Update; The Changing Workplace: Challenges in a Federal Context (Overview and Panel Discussion); Committee Discussion: Prepare for Meeting with NSF Deputy Director; Discussion with Deputy Director; Open Government.

November 17, 2010

The Changing Workplace: Challenges in a Federal Context (Discussion Continued); International Facilities Subcommittee; Committee Expectations/Closing Discussions.

Dated: October 29, 2010.
Susanne Bolton,
Committee Management Officer.

[FR Doc. 2010-27791 Filed 11-3-10; 8:45 am]

BILLING CODE 7555-01-P